DEPARTMENT OF TRANSPORTATION

Federal Aviation Administration

14 CFR Part 39

[Docket No. FAA-2006-23635; Directorate Identifier 2005-NM-245-AD; Amendment 39-14546; AD 2006-07-19]

RIN 2120-AA64

Airworthiness Directives; Aerospatiale Model ATR42 Airplanes and Model ATR72 Airplanes

AGENCY: Federal Aviation Administration (FAA), Department of Transportation (DOT).

ACTION: Final rule.

SUMMARY: The FAA is adopting a new airworthiness directive (AD) for certain Aerospatiale Model ATR42 airplanes and Model ATR72 airplanes. This AD requires installing protective ramps on trim panel 110VU; and inspecting the protective guard of the standby pitch trim switch to determine if it is missing, damaged, or ineffective, and doing the corrective action if necessary. This AD results from a finding that the protective guard of the standby pitch trim switch, which is installed on the center pedestal, could be damaged or missing. We are issuing this AD to prevent inadvertent activation of the standby pitch trim, which could result in pitch trim runaway and consequent reduced controllability of the airplane.

DATES: This AD becomes effective May 12, 2006.

The Director of the Federal Register approved the incorporation by reference of certain publications listed in the AD as of May 12, 2006.

ADDRESSES: You may examine the AD docket on the Internet at http://dms.dot.gov or in person at the Docket Management Facility, U.S. Department of Transportation, 400 Seventh Street, SW., Nassif Building, Room PL-401, Washington, DC.

Contact Aerospatiale, 316 Route de Bayonne, 31060 Toulouse, Cedex 03, France, for service information identified in this AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Aerospatiale Model ATR42 airplanes and Model ATR72 airplanes. That NPRM was published in the Federal Register on January 19, 2006 (71 FR 3023). That NPRM proposed to require installing protective ramps on trim panel 110VU; and inspecting the protective guard of the standby pitch trim switch to determine if it is missing, damaged, or ineffective, and doing the corrective action if necessary.

Comments

We provided the public the opportunity to participate in the development of this AD. We received no comments on the NPRM or on the determination of the cost to the public.

Explanation of Changes to Applicability

We have corrected the applicability in paragraph (c) of the AD to reidentify the modification as “ATR Modification 05450.”

We have revised the applicability in paragraph (f) of the AD to identify model designations as published in the most recent type certificate data sheet for the affected models.

Conclusion

We have carefully reviewed the available data and determined that air safety and the public interest require adopting the AD with the changes described previously. We have determined that these changes will neither increase the economic burden on any operator nor increase the scope of the AD.

Costs of Compliance

This AD affects about 69 airplanes of U.S. registry. The required actions will take about 1 work hour per airplane, at an average labor rate of $65 per work hour. Required parts will cost about $465 per airplane. Based on these figures, the estimated cost of the AD for U.S. operators is $36,570, or $530 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-19 Aerospatiale: Amendment 39-14546. Docket No. FAA-2006-23635; Directorate Identifier 2005-NM-245-AD.

Effective Date

(a) This AD becomes effective May 12, 2006.

Affected ADs

(b) None.

Applicability

(c) This AD applies to Aerospatiale Model ATR42-200, -300, -320, and -500 airplanes, and Model ATR72-101, -201, -102, -202, -211, -212, and -212A airplanes, certificated in any category; except those on which ATR Modification 05450 has been incorporated in production.

Unsafe Condition

(d) This AD results from a finding that the protective guard of the standby pitch trim switch, which is installed on the center pedestal, could be damaged or missing. We are issuing this AD to prevent inadvertent activation of the standby pitch trim, which could result in pitch trim runaway and consequent reduced controllability of the airplane.

Compliance

(e) You are responsible for having the actions required by this AD performed within the compliance times specified, unless the actions have already been done.

Installation, Inspection, and Corrective Action If Necessary

(f) Within 4 months after the effective date of this AD: Install protective ramps on trim panel 110VU; and do a general visual inspection of the protective guard of the standby pitch trim switch (18CG) to determine if it is missing, damaged, or ineffective, and do the corrective action if applicable; by accomplishing all the applicable actions specified in the Accomplishment Instructions of Avions de Transport Regional Service Bulletin ATR42-92-0010, Revision 1, dated March 11, 2003 (for Model ATR42-200, -300, -320, and -500 airplanes); or Avions de Transport Regional Service Bulletin ATR72-92-1010, Revision 1, dated March 11, 2003 (for Model ATR72-101, -201, -102, -202, -211, -212, and -212A airplanes), as applicable. The corrective action, if required, must be done before further flight after the inspection.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) French airworthiness directive 2003-106(B) R1, dated April 16, 2003, also addresses the subject of this AD.

Material Incorporated by Reference

(i) You must use Avions de Transport Regional Service Bulletin ATR42-92-0010, Revision 1, dated March 11, 2003; or Avions de Transport Regional Service Bulletin ATR72-92-1010, Revision 1, dated March 11, 2003; as applicable, to perform the actions that are required by this AD, unless the AD specifies otherwise. Avions de Transport Regional Service Bulletin ATR42-92-0010, Revision 1, dated March 11, 2003, includes the following effective pages:

Page Nos. | Revision level shown on page | Date shown on page
1, 4, 5, 9, 13 | 1 | March 11, 2003.
2, 3, 6-8, 10-12 | Original | February 20, 2003.

Avions de Transport Regional Service Bulletin ATR72-92-1010, Revision 1, dated March 11, 2003, includes the following effective pages:

Page Nos. | Revision level shown on page | Date shown on page
1-3, 7, 11 | 1 | March 11, 2003.
4-6, 8-10 | Original | February 20, 2003.

The Director of the Federal Register approved the incorporation by reference of these documents in accordance with 5 U.S.C. 552(a) and 1 CFR part 51. Contact Aerospatiale, 316 Route de Bayonne, 31060 Toulouse, Cedex 03, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 24, 2006.
Ali Bahrami,
Manager, Transport Airplane Directorate, Aircraft Certification Service.

[FR Doc. 06-3199 Filed 4-6-06; 8:45 am]

BILLING CODE 4910-13-P